DEPARTMENT OF ENERGY

Federal Energy Regulatory Commission

[Docket No. RM01-5-000]

Electronic Tariff Filings; Notice Regarding Footnotes, Headers, or Footers in Tariff Text in the Commission's E-Tariff System

Take notice that the Commission's electronic tariff system (eTariff) does not reproduce footnotes, headers, or footers in the Real-Text-Format (RTF) tariff text posted on the Commission's Web site (http://etariff.ferc.gov/TariffList.aspx).¹ To the extent footnotes, headers or footers are needed in tariff text, filers should enter them separately in the body of the document on each page where needed rather than by using automatic features of the word processing program.

¹ This applies to footnotes created programmatically by the word processing software, such as the Insert Footnote Tool in Microsoft Word, and text added to the header or footer areas of a document, such as using the Insert Header or Footer Tool in Microsoft Word or clicking in the header or footer areas of the document.

Dated: September 6, 2017.
Kimberly D. Bose,
Secretary.

[FR Doc. 2017-19563 Filed 9-14-17; 8:45 am]

BILLING CODE 6717-01-P